ENVIRONMENTAL PROTECTION AGENCY

[EPA-New England Region I—EPA-R01-OW-2014-0202; FRL-9908-62-Region 1]

Massachusetts Marine Sanitation Device Standard—Receipt of Petition

AGENCY: Environmental Protection Agency (EPA).

ACTION: Notice—receipt of petition.

SUMMARY: Notice is hereby given that a petition has been received from the Commonwealth of Massachusetts requesting a determination by the Regional Administrator, U.S. Environmental Protection Agency, that adequate facilities for the safe and sanitary removal and treatment of sewage from all vessels are reasonably available for coastal waters of the Commonwealth of Massachusetts.

DATES: Comments must be submitted by April 23, 2014.

ADDRESSES: Submit your comments, identified by Docket ID No. EPA-R01-OW-2014-0202, by one of the following methods: www.regulations.gov, Follow the on-line instructions for submitting comments.

• Email: rodney.ann@epa.gov.

• Fax: (617) 918-0538.

Mail and hand delivery: U.S. Environmental Protection Agency—New England Region, Five Post Office Square, Suite 100, OEP06-1, Boston, MA 02109-3912. Deliveries are only accepted during the Regional Office's normal hours of operation (8:00 a.m.-5:00 p.m., Monday through Friday, excluding legal holidays), and special arrangements should be made for deliveries of boxed information.

Instructions: Direct your comments to Docket ID No. EPA-R01-OW-2014-0202. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov, or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copy-righted material, will be publicly available only in hard copy. Publicly available docket materials are available either electronically in www.regulations.gov or in hard copy at the U.S. Environmental Protection Agency—New England Region, Five Post Office Square, Suite 100, OEP06-01, Boston, MA 02109-3912. Such deliveries are only accepted during the Regional Office's normal hours of operation, and special arrangements should be made for deliveries of boxed information. The Regional Office is open from 8:00 a.m.-5:00 p.m., Monday through Friday, excluding legal holidays. The telephone number is (617) 918-1538.

FOR FURTHER INFORMATION CONTACT: Ann Rodney, U.S. Environmental Protection Agency—New England Region, Five Post Office Square, Suite 100, OEP06-01, Boston, MA 02109-3912. Telephone: (617) 918-1538, Fax number: (617) 918-0538; email address: rodney.ann@epa.gov.

SUPPLEMENTARY INFORMATION: Notice is hereby given that a petition has been received from the Commonwealth of Massachusetts requesting a determination by the Regional Administrator, U.S. Environmental Protection Agency, pursuant to Section 312 of Public Law 92-500 as amended by Public Law 95-217 and Public Law 100-4, that adequate facilities for the safe and sanitary removal and treatment of sewage from all vessels are reasonably available for all coastal waters of the Commonwealth of Massachusetts.

The majority of Massachusetts waters have already been designated as “no discharge” for boat sewage. This petition covers three areas: a strip near the state-federal boundary spanning from Manchester-By-The-Sea to Marshfield, a corridor in Vineyard Sound, and a corridor in Nantucket Sound. The state wide NDA will seamlessly integrate the 20 smaller NDAs that have been designated in Massachusetts since 1991, while also incorporating the remaining undesignated coastal waters into the statewide prohibition on boat sewage disposal. The boundaries for this statewide NDA encompass all Commonwealth of Massachusetts coastal waters: from mean low water along the coast of Massachusetts, seaward to the state-federal boundary, north to the border with New Hampshire, and south to the border with Rhode Island: http://www.mass.gov/eea/agencies/czm/program-areas/coastal-water-quality/ndas/).

Previous NDA designations included estimates of the number of boats and number of Marine Sanitation Devices (MSDs) in each region of interest. Based upon the figures provided in each of the applications, there are an estimated 23,080 vessels with MSDs using Massachusetts coastal waters. There are approximately 64 marinas, roughly 25,000 permitted public slips, and moorings. Massachusetts has certified that there are a total of 132 pumpout facilities in coastal Massachusetts: http://www.mass.gov/eea/agencies/czm/program-areas/coastal-water-quality/clean-boating/pumpout-list.html.

Boat owners spend close to $200 million per year on new boats, engines, trailers, and accessories. Massachusetts has over 500 bathing beaches covering over 727 miles of sandy coastline. The shellfish habitat supports hundreds of commercial shellfishermen with a landings value of over $27 million. Coastal tourism and recreation employs over 125,000 individuals in Massachusetts and generates over $14 billion.

Notice is hereby given that a petition has been received from the Commonwealth of Massachusetts requesting a determination by the Regional Administrator, U.S. Environmental Protection Agency, that adequate facilities for the safe and sanitary removal and treatment of sewage from all vessels are reasonably available for the state coastal waters of the Commonwealth of Massachusetts.

Dated: March 10, 2014.
H. Curtis Spalding,
Regional Administrator, New England Region.

[FR Doc. 2014-06381 Filed 3-21-14; 8:45 am]

BILLING CODE 6560-50-P